DEPARTMENT OF TRANSPORTATION

National Highway Traffic Safety Administration

[Docket No. NHTSA-2001-9663]

Notice of Workshop on Headlamp Safety Metrics; Balancing Visibility and Glare

AGENCY: National Highway Traffic Safety Administration, DOT.

ACTION: Notice of workshop on Headlamp Safety Metrics; Balancing Visibility and Glare.

SUMMARY: The National Highway Traffic Safety Administration (NHTSA) will conduct a technical workshop to discuss the current state of knowledge regarding the development and use of safety-related metrics for evaluating forward lighting systems. A diverse group of automotive lighting, vision, and safety experts will be invited to make presentations regarding their views and research on this topic. The presentations will focus on approaches for developing safety-related metrics as a basis for evaluating and quantifying the tradeoff between glare and visibility needed to enhance nighttime driving safety and mobility for all road users. The workshop participants will discuss what steps can be taken in terms of research for evaluating the safety impact of new lighting technologies.

Date and Time: The workshop will be held on July 13, 2004, from 8:30 a.m. to 5 p.m.

ADDRESSES: The workshop will be held at the Capitol Holiday Inn, Discovery Ball Room, 550 C Street, SW., Washington, DC 20024.

FOR FURTHER INFORMATION CONTACT: If you are interested in attending, please register for the workshop by contacting Jenny O'Rourke by July 2, 2004, at (202) 366-4850 or Jennifer.O'Rourke@nhtsa.dot.gov. Please note that the attendance will be limited to the first 50 registrants due to space limitations. For technical questions, contact Michael Perel, Office of Vehicle Safety Research, at (202) 366-5675 or Mike.Perel@nhtsa.dot.gov.

SUPPLEMENTARY INFORMATION: Technology advances in automotive forward lighting may help drivers see further, but can also increase glare that could affect the safe mobility of other drivers. This glare may be not only bothersome, but possibly detrimental to safety. Existing regulations for automotive lighting have been developed to balance the visibility benefits with the glare consequences based on older filament lamp technologies. New, more efficient light sources and advanced optics may alter this balance. To evaluate the tradeoffs between visibility and glare, metrics are needed that represent the safety impact of forward lighting photometric performance.

The workshop is primarily intended for technical experts in the fields of driving performance, vehicle lighting, and vision. Through a combination of invited lectures and group discussions among attendees, a dialogue will be started to help define glare and visibility and to identify useful approaches for developing metrics and safety limits. This workshop will not address changes to NHTSA policies or regulations regarding glare. Topics will include: Physiology of the visual system, visual requirements for driving, new forward lighting technologies, and measuring the impact of forward lighting on safety.

The handouts and other information presented at the workshop will be available for public inspection in the DOT Docket in Washington, DC, within 3 weeks after the meeting. Copies of the materials will be available at ten cents a page upon request to DOT Docket, Room PL-401, 400 Seventh Street, SW., Washington, DC 20590. The DOT Docket is open to the public from 10 a.m. to 5 p.m. The material may also be accessed electronically at http://dms.dot.gov, at Docket No. NHTSA-02-13957.

The handouts and other information presented at the workshop will also be available on NHTSA's Web site at URL http://www-nrd.nhtsa.dot.gov/departments/nrd-01/presentations/presentations.html.

Should it be necessary to cancel the meeting due to inclement weather or any other emergencies, a decision to cancel will be made as soon as possible and posted immediately on NHTSA's Web site at URL http://www.nhtsa.dot.gov/nhtsa.announce/meetings/. If you do not have access to the Web site, you may call for information at the contact listed above and leave your telephone or telefax number. You will be contacted only if the meeting is canceled.

Issued on: May 26, 2004.
Joseph N. Kanianthra,
Associate Administrator for Vehicle Safety Research.

[FR Doc. 04-12500 Filed 6-2-04; 8:45 am]

BILLING CODE 4910-59-P